DEPARTMENT OF THE TREASURY

Office of Thrift Supervision

12 CFR Parts 500, 505, 506, 516, 517, 541, 543, 544, 545, 546, 552, 556, 560, 561, 563, 563d, 563g, 565, 568, 570, 573, 583, and 590

[No. 2001-84]

Technical Amendments

AGENCY: Office of Thrift Supervision, Treasury.

ACTION: Final rule.

SUMMARY: The Office of Thrift Supervision (OTS) is amending its regulations to incorporate a number of technical and conforming amendments. They include clarifications, updated statutory and other references, and corrections of typographical errors.

EFFECTIVE DATE: December 21, 2001.

FOR FURTHER INFORMATION CONTACT: Marilyn K. Burton, Senior Paralegal (Regulations), (202) 906-6467, or Karen A. Osterloh, Assistant Chief Counsel, (202) 906-6639, Regulations and Legislation Division, Chief Counsel's Office, Office of Thrift Supervision, 1700 G Street, NW., Washington, DC 20552.

SUPPLEMENTARY INFORMATION: OTS is amending its regulations to incorporate a number of technical and conforming amendments. These changes are outlined below.

OTS is changing the headings for several parts to more accurately reflect the contents. The following chart illustrates the changes made by this rule:

Part | Old title | New title
500 | Organization and Channeling of Functions | Agency Organization and Functions
516 | Application Processing Guidelines and Procedures | Application Procedures Processing
517 | The Minority, Women, and Individuals with Disabilities Outreach Program: Contracting for Goods and Services | Contracting Outreach Programs
541 | Definitions | Definitions for Regulations Affecting Federal Savings Associations
543 | Incorporation, Organization, and Conversion of Federal Mutual Associations | Federal Mutual Associations Savings—Incorporation, Organization, and Conversion
544 | Charter and Bylaws | Federal Mutual Savings Associations—Charter and Bylaws
545 | Operations | Federal Savings Associations—Operations
546 | Merger, Dissolution, Reorganization, and Conversion | Federal Mutual Savings Associations—Merger, Dissolution, Reorganization, and Conversion
552 | Incorporation, Organization, and Conversion of Federal Stock Associations | Federal Stock Associations—Incorporation, Organization, and Conversion
561 | Definitions | Definitions for Regulations Affecting All Savings Associations
563 | Operations | Savings Associations—Operations
568 | Security Procedures | Security Procedures under the Bank Protection Act
570 | Submission and Review of Safety and Soundness Compliance Plans and Issuance of Orders to Correct Safety and Soundness Deficiencies | Safety and Soundness Guidelines and Compliance Procedures
583 | Definitions | Definitions for Regulations Affecting Savings and Loan Holding Companies

In addition, OTS makes the following miscellaneous changes:

• Part 505—Freedom of Information Act (FOIA). The final rule revises §§ 505.1 to 505.4, which describe the availability of materials under FOIA and the procedures for requests for records and administrative appeals. The final rule indicates that materials are available through the Dissemination Branch, General Law Division and the Public Reading Room, and that the Public Reading Room is available only by appointment. The final rule also provides that requests for records and administrative appeals of initial determinations to deny records must be submitted to the Dissemination Branch, General Law Division.

• Part 506—Information Collection Requirements under the Paperwork Reduction Act (PRA). The final rule updates the table displaying the OMB control numbers assigned to various OTS regulations under the PRA by inserting additional references to the control numbers and by correcting minor typographical errors. See 12 CFR 506.1(b).

• Part 516—Application Processing Guidelines and Procedures. The final rule updates § 516.40 to include current addresses for OTS Regional Offices.

• Part 556—Statements of Policy. This final rule moves the statement of policy on branching at 12 CFR 556.5 to 12 CFR 545.93. This provision will now directly follow OTS rules on branch offices and branch office applications at 12 CFR 545.92. The only remaining provision in part 556 is the policy statement on receipt of interest expressed as a percentage of other income. See 12 CFR 556.13. This policy statement has limited applicability and is adequately addressed in various OTS legal opinions. See Op. Chief Counsel (May 3, 1996). OTS has concluded that it is unnecessary to continue to include this policy statement in its rules. Accordingly, this final rule deletes part 556.

• Part 560—Lending and Investment. The final rule corrects the indentation in the supervisory loan-to-value limits chart in the Appendix to § 560.101.

• Part 563d—Securities of Savings Associations and Part 563g—Securities Offerings. The final rule updates the filing requirements at §§ 563d.1, 563d.2, 563g.5, and 563g.18.

• Part 565—Prompt Corrective Action. The final rule corrects a statutory citation in § 565.4(b)(1)(iv).

• Part 568—Security Procedures. The final rule corrects the authority citation for this part.

• Part 573—Privacy of Consumer Financial Information. The final rule adds a phrase that was inadvertently omitted from § 573.15(a)(7)(ii). This change conforms this section to the text of the rule published on 65 FR 35162 (June 1, 2000).

• Part 590—Preemption of State Usury Laws. OTS is correcting a grammatical error in § 590.3(c).

Administrative Procedure Act; Riegle Community Development and Regulatory Improvement Act of 1994

OTS finds that there is good cause to dispense with prior notice and comment on this final rule and with the 30-day delay of effective date mandated by the Administrative Procedure Act.¹ OTS believes that these procedures are unnecessary and contrary to public interest because the rule merely corrects and clarifies existing provisions. Because the amendments in the rule are not substantive, these changes will not detrimentally affect savings associations.

¹ 5 U.S.C. 553.

Section 302 of the Riegle Community Development and Regulatory Improvement Act of 1994 provides that regulations that impose additional reporting, disclosure, or other new requirements may not take effect before the first day of the quarter following publication.² This section does not apply because this final rule imposes no additional requirements and makes only technical changes to existing regulations.

² Pub. L. 103-325, 12 U.S.C. 4802.

Regulatory Flexibility Act

Pursuant to section 605(b) of the Regulatory Flexibility Act,³ the OTS Director certifies that this technical corrections regulation will not have a significant economic impact on a substantial number of small entities.

³ Pub. L. 96-354, 5 U.S.C. 601.

Executive Order 12866

OTS has determined that this rule is not a “significant regulatory action” for purposes of Executive Order 12866.

Unfunded Mandates Reform Act of 1995

OTS has determined that the requirements of this final rule will not result in expenditures by State, local, and tribal governments, or by the private sector, of $100 million or more in any one year. Accordingly, a budgetary impact statement is not required under section 202 of the Unfunded Mandates Reform Act of 1995.

List of Subjects

12 CFR Part 500

Organization and functions (Government agencies).

12 CFR Part 505

Freedom of information.

12 CFR Part 506

Reporting and recordkeeping requirements.

12 CFR Part 516

Administrative practice and procedure, Reporting and recordkeeping requirements, Savings associations.

12 CFR Part 517

Government contracts, Individuals with disabilities, Minority businesses, Women.

12 CFR Parts 541, 556, and 561

Savings associations.

12 CFR Parts 543, 544, and 546

Reporting and recordkeeping requirements, Savings associations.

12 CFR Part 545

Accounting, Consumer protection, Credit, Electronic funds transfers, Investments, Reporting and recordkeeping requirements, Savings associations.

12 CFR Parts 552 and 563g

Reporting and recordkeeping requirements, Savings associations, Securities.

12 CFR Part 560

Consumer protection, Investments, Manufactured homes, Mortgages, Reporting and recordkeeping requirements, Savings associations, Securities.

12 CFR Part 563

Accounting, Advertising, Crime, Currency, Investments, Reporting and recordkeeping requirements, Savings associations, Securities, Surety bonds.

12 CFR Part 563d

Authority delegations (Government agencies), Reporting and recordkeeping requirements, Savings associations, Securities.

12 CFR Part 565

Administrative practice and procedure, Capital, Savings associations.

12 CFR Part 568

Reporting and recordkeeping requirements, Savings associations, Security measures.

12 CFR Part 570

Accounting, Administrative practice and procedure, Bank deposit insurance, Holding companies, Reporting and recordkeeping requirements, Savings associations, Safety and soundness.

12 CFR Part 573

Consumer protection, Privacy, Reporting and recordkeeping requirements, Savings associations.

12 CFR Part 583

Holding Companies, Savings associations.

12 CFR Part 590

Banks, banking, Loan programs—housing and community development, Manufactured homes, Mortgages, Savings associations.

Accordingly, the Office of Thrift Supervision hereby amends title 12, chapter V of the Code of Federal Regulations, as set forth below.

PART 500—AGENCY ORGANIZATION AND FUNCTIONS

1. Revise the part heading for part 500 to read as shown above.

2. The authority citation for part 500 continues to read as follows:

Authority: 12 U.S.C. 1462a, 1463, 1464.

PART 505—FREEDOM OF INFORMATION ACT

3. The authority citation for part 505 continues to read as follows:

Authority: 5 U.S.C. 552; 12 U.S.C. 1462a, 1463, 1464.

4. Revise the third sentence of § 505.1(b) to read as follows:

§ 505.1 Basis and Scope.

* * * * *

(b) * * * Procedures for requests for records are set forth in § 505.3 of this part. * * *

5. Revise § 505.2 to read as follows:

§ 505.2 Public Reading Room.

OTS will make materials available for review on an ad hoc basis when necessary. Contact the Dissemination Branch, General Law Division, Office of Thrift Supervision, 1700 G Street, NW., Washington, DC 20552, or you may visit the Public Reading Room at 1700 G Street, NW., by appointment only. To make an appointment for access, call (202) 906-5922, send an E-mail to publicinfo@ots.treas.gov, or send a facsimile transmission to (202) 906-7755. (Please identify the materials you would like to inspect, to assist us in serving you.) We schedule appointments on business days between 10 a.m. and 4 p.m. In most cases, appointments will be available the next business day following the date we receive your request.

6. Revise the first two sentences of § 505.3 to read as follows:

§ 505.3 Requests for records.

The Manager, Dissemination Branch or a designated official will make the initial determination under 31 CFR 1.5(g) whether to grant a request for OTS records. Requests may be mailed to: Freedom of Information Act Request, Dissemination Branch, General Law Division, Office of Thrift Supervision, 1700 G Street, NW., Washington, DC 20552, or marked “FOIA” and delivered in person to the Public Reading Room, Dissemination Branch, General Law Division, 1700 G Street, NW., Washington, DC 20552. * * *

7. Revise the first and third sentences of § 505.4 to read as follows:

§ 505.4 Administrative appeal of initial determination to deny records.

The Deputy Chief Counsel for General Law or a designated official will make appellate determinations under 31 CFR 1.5(h) with respect to OTS records. * * * Appeals may be delivered personally to the Dissemination Branch, General Law Division, Office of Thrift Supervision, 1700 G Street, NW., Washington, DC 20552. * * *

PART 506—INFORMATION COLLECTION REQUIREMENTS UNDER THE PAPERWORK REDUCTION ACT

8. The authority citation for part 506 continues to read as follows:

Authority: 44 U.S.C. 3501 et seq.

9. Amend § 506.1(b) by revising the entry for part 516, removing the entry for § 516.1(c), adding new entries for §§ 533.4, 533.6 and 533.7 in numerical order, and revising the entry for § 545.92 to read as follows:

§ 506.1 OMB control numbers assigned pursuant to the Paperwork Reduction Act.

* * * * *

(b) Display.

12 CFR part or section where identified and described | Current OMB control No.
* * * * *
Part 516 | 1550-0056
* * * * *
533.4 | 1550-0105
533.6 | 1550-0105
533.7 | 1550-0105
* * * * *
545.92 | 1550-0004 and 1550-0006
* * * * *

PART 516—APPLICATION PROCESSING PROCEDURES

10. Revise the part heading for part 516 to read as shown above.

11. The authority citation for part 516 continues to read as follows:

Authority: 5 U.S.C. 552, 559; 12 U.S.C. 1462a, 1463, 1464, 2901 et seq.

12. Revise § 516.40(a)(2) to read as follows:

§ 516.1 Where do I file my application?

(a) * * *

(2) The addresses of each Regional Office and the states covered by each office are:

Region | Office address | States served
Northeast | Office of Thrift Supervision, 10 Exchange Place, 18th Floor, Jersey City, New Jersey, 07302 | Connecticut, Delaware, Maine, Massachusetts, New Hampshire, New Jersey, New York, Pennsylvania, Rhode Island, Vermont, West Virginia.
Southeast | Office of Thrift Supervision, 1475 Peachtree Street, NE., Atlanta, Georgia 30309. Mail to: PO Box 105217, Atlanta, Georgia 30348-5217 | Alabama, District of Columbia, Florida, Georgia, Maryland, North Carolina, Puerto Rico, South Carolina, Virginia, the Virgin Islands
Central | Office of Thrift Supervision, One South Wacker Drive, Suite 2000, Chicago, Illinois 60606 | Illinois, Indiana, Kentucky, Michigan, Ohio, Tennessee, Wisconsin
Midwest | Office of Thrift Supervision, 225 E. John Carpenter Freeway, Suite 500, Irving, Texas 75062-2326. Mail to: PO Box 619027, Dallas/Ft. Worth, Texas 75261-9027 | Arkansas, Colorado, Iowa, Kansas, Louisiana, Minnesota, Mississippi, Missouri, Nebraska, New Mexico, North Dakota, Oklahoma, South Dakota, Texas
West | Office of Thrift Supervision, Pacific Plaza, 2001 Junipero Serra Boulevard, Suite 650, Daly City, California, 94014-1976. Mail to: PO Box 7165, San Francisco, California 94120-7165 | Alaska, Arizona, California, Guam, Hawaii, Idaho, Montana, Nevada, Northern Mariana Islands, Oregon, Utah, Washington, Wyoming

* * * * *

PART 517—CONTRACTING OUTREACH PROGRAMS

13. Revise the part heading for part 517 to read as shown above.

14. The authority citation for part 517 continues to read as follows:

Authority: 12 U.S.C. 1833(e); 42 U.S.C. 12101 et seq.

PART 541—DEFINITIONS FOR REGULATIONS AFFECTING FEDERAL SAVINGS ASSOCIATIONS

15. Revise the part heading for part 541 to read as shown above.

16. The authority citation for part 541 continues to read as follows:

Authority: 12 U.S.C. 1462a, 1463, 1464.

PART 543—FEDERAL MUTUAL SAVINGS ASSOCIATIONS—INCORPORATION, ORGANIZATION, AND CONVERSION

17. Revise the part heading for part 543 to read as shown above.

18. The authority citation for part 543 continues to read as follows:

Authority: 12 U.S.C. 1462, 1462a, 1463, 1464, 1467a, 2901 et seq.

PART 544—FEDERAL MUTUAL SAVINGS ASSOCIATIONS—CHARTER AND BYLAWS

19. Revise the part heading for part 544 to read as shown above.

20. The authority citation for part 544 continues to read as follows:

Authority: 12 U.S.C. 1462, 1462a, 1463, 1464, 1467a, 2901 et seq.

PART 545—FEDERAL SAVINGS ASSOCIATIONS—OPERATIONS

21. Revise the part heading for part 545 to read as shown above.

22. The authority citation for part 545 continues to read as follows:

Authority: 12 U.S.C. 1462a, 1463, 1464, 1828.

23. Revise § 545.92(d)(2) to read as follows:

§ 545.92 Branch offices.

* * * * *

(d) * * *

(2) Submission of application or notice. A Federal savings association must comply with § 545.93 of this part and must file its application or notice within the time frame in § 516.60 of this chapter.

* * * * *

PART 546—FEDERAL MUTUAL SAVINGS ASSOCIATIONS—MERGER, DISSOLUTION, REORGANIZATION, AND CONVERSION

24. Revise the part heading for part 546 to read as shown above.

25. The authority citation for part 546 continues to read as follows:

Authority: 12 U.S.C. 1462, 1462a, 1463, 1464, 1467a, 2901 et seq.

PART 552—FEDERAL STOCK ASSOCIATIONS—INCORPORATION, ORGANIZATION, AND CONVERSION

26. Revise the part heading for part 552 to read as shown above.

27. The authority citation for part 552 continues to read as follows:

Authority: 12 U.S.C. 1462, 1462a, 1463, 1464, 1467a.

PART 556—STATEMENTS OF POLICY [REMOVED]

§ 556.5 [Redesignated as § 545.93]

28. Redesignate § 556.5 as § 545.93.

Part 556 [Removed]

28a. Remove part 556.

PART 560—LENDING AND INVESTMENT

29. The authority citation for part 560 continues to read as follows:

Authority: 12 U.S.C. 1462, 1462a, 1463, 1464, 1467a, 1701j-3, 1828, 3803, 3806; 42 U.S.C. 4106.

30. Amend the Appendix to § 560.101 by revising the Supervisory Loan-to-Value Limits table to read as follows:

§ 560.101 Real estate lending standards.

* * * * *

Appendix to § 560.101—Interagency Guidelines for Real Estate Lending Policies

* * * * *

Supervisory Loan-to-Value Limits

* * * * *

Loan category | Loan-to-value limit (percent)
Raw land | 65
Land development | 75
Construction:
Commercial, multifamily,¹ and other nonresidential | 80
1- to 4-family residential | 85
Improved property | 85
Owner-occupied 1- to 4-family and home equity | (²)
¹ Multifamily construction includes condominiums and cooperatives.
² A loan-to-value limit has not been established for permanent mortgage or home equity loans on owner-occupied, 1- to 4-family residential property. However, for any such loan with a loan-to-value ratio that equals or exceeds 90 percent at origination, an institution should require appropriate credit enhancement in the form of either mortgage insurance or readily marketable collateral.

* * * * *

PART 561—DEFINITIONS FOR REGULATIONS AFFECTING ALL SAVINGS ASSOCIATIONS

31. Revise the part heading for part 561 to read as shown above.

32. The authority citation for part 561 continues to read as follows:

Authority: 12 U.S.C. 1462, 1462a, 1463, 1464, 1467a.

PART 563—SAVINGS ASSOCIATIONS—OPERATIONS

33. Revise the part heading for part 563 to read as shown above.

34. The authority citation for part 563 continues to read as follows:

Authority: 12 U.S.C. 375b, 1462, 1462a, 1463, 1464, 1467a, 1468, 1817, 1820, 1828, 1831o, 3806; 42 U.S.C. 4106.

PART 563d—SECURITIES OF SAVINGS ASSOCIATIONS

35. The authority citation for part 563d continues to read as follows:

Authority: 12 U.S.C. 1462a, 1463, 1464; 15 U.S.C. 78c(b), 78l, 78m, 78w, 78d-1.

36. Revise the fourth sentence of § 563d.1 to read as follows:

§ 563d.1 Requirements under certain sections of the Securities Exchange Act of 1934.

* * * All filings with respect to securities issued by savings associations required by those rules and regulations to be made with the Commission shall be made with the Business Transactions Division, Chief Counsel's Office, Office of Thrift Supervision, 1700 G Street, NW., Washington, DC 20552, by submitting such filings to the Securities Filing Desk at the above address, except as noted in § 563d.2 of this part. * * *

37. Revise the third sentence of § 563d.2 to read as follows:

§ 563d.2 Mailing requirements for securities filings.

* * * The originally-signed copy and all remaining copies of each filing shall be sent to the Business Transactions Division by submitting such filings to the Securities Filing Desk at the address specified in § 563d.1 of this part. * * *

PART 563g—SECURITIES OFFERINGS

38. The authority citation for part 563g continues to read as follows:

Authority: 12 U.S.C. 1462a, 1463, 1464; 15 U.S.C. 78c(b), 78l, 78m, 78n, 78p, 78w.

39. Revise § 563g.5(b)(1) introductory text, (b)(1)(i), and (b)(2) to read as follows:

§ 563g.5 Filing and signature requirements.

* * * * *

(b) * * * (1) Unless otherwise required, any filing under this part shall include nine copies of the document to be filed with the Business Transactions Division, Chief Counsel's Office, as follows:

(i) Seven copies, which shall include one manually signed copy with exhibits, three conformed copies with exhibits, and three conformed copies without exhibits, to the Securities Filing Desk, Office of Thrift Supervision, 1700 G Street, NW., Washington, DC 20552; and

* * * * *

(2) Within five days after the effective date of an offering circular or the commencement of a public offering after the effective date, whichever occurs later, nine copies of the offering circular used shall be filed with OTS, as follows: seven copies to the Securities Filing Desk, Office of Thrift Supervision, 1700 G Street, NW., Washington, DC 20552, and two copies to the Regional Director.

* * * * *

40. Revise the last sentence of § 563g.18(a) to read as follows:

§ 563g.18 Current and periodic reports.

(a) * * * The duty to file under this section shall also be automatically suspended as to any fiscal year, other than the fiscal year within which such offering circular became effective, if, at the beginning of such fiscal year, the securities of each class to which the offering circular relates are held of record by less than three hundred persons and upon the filing of a Form 15.

* * * * *

PART 565—PROMPT CORRECTIVE ACTION

41. The authority citation for part 565 continues to read as follows:

Authority: 12 U.S.C. 1831o.

42. Revise § 565.4(b)(1)(iv) is revised to read as set forth:

§ 565.4 Capital measures and capital category definitions.

* * * * *

(b) * * *

(1) * * *

(iv) Is not subject to any written agreement, order, capital directive, or prompt corrective action directive issued by OTS under section 8 of the FDI Act, the International Lending Supervision Act of 1983 (12 U.S.C. 3907), the Home Owners' Loan Act (12 U.S.C. 1464(t)(6)(A)(ii)), or section 38 of the FDI Act, or any regulation thereunder, to meet and maintain a specific capital level for any capital measure.

* * * * *

PART 568—SECURITY PROCEDURES UNDER THE BANK PROTECTION ACT

43. Revise the part heading for part 568 to read as shown above.

44. Revise the authority citation for part 568 to read as follows:

Authority: Secs. 2-5, 82 Stat. 294-295 (12 U.S.C. 1881-1884).

PART 570—SAFETY AND SOUNDNESS GUIDELINES AND COMPLIANCE PROCEDURES

45. Revise the part heading for part 570 to read as shown above.

46. The authority citation for part 570 continues to read as follows:

Authority: 12 U.S.C. 1831p-1.

PART 573—PRIVACY OF CONSUMER FINANCIAL INFORMATION

47. The authority citation for part 573 continues to read as follows:

Authority: 12 U.S.C. 1462a, 1463, 1464, 1828; 15 U.S.C. 6801 et seq.

48. Revise § 573.15 (a)(7)(ii) to read as follows:

§ 573.15 Other exceptions to notice and opt out requirements.

(a) * * *

(7) * * *

(ii) To comply with a properly authorized civil, criminal, or regulatory investigation, or subpoena or summons by Federal, State, or local authorities; or

* * * * *

PART 583—DEFINITIONS FOR REGULATIONS AFFECTING SAVINGS AND LOAN HOLDING COMPANIES

49. Revise the part heading for part 583 to read as shown above.

50. The authority citation for part 583 continues to read as follows:

Authority: 12 U.S.C. 1462, 1462a, 1463, 1464, 1467a, 1468.

PART 590—PREEMPTION OF STATE USURY LAWS

51. The authority citation for part 590 continues to read as follows:

Authority: 12 U.S.C. 1735f-7a.

52. Revise 590.3(c) to read as follows:

§ 590.3 Operation.

* * * * *

(c) Nothing in this section preempts limitations in state laws on prepayment charges, attorneys' fees, late charges or other provisions designed to protect borrowers.

Dated: December 11, 2001.
By the Office of Thrift Supervision.
James E. Gilleran,
Director.

[FR Doc. 01-31053 Filed 12-20-01; 8:45 am]

BILLING CODE 6720-01-P